DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before July 11, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov. Each mode of transportation for which a particular special permit is requested is indicated by a number in the “Nature of Application” portion of the table below as follows: 1—Motor vehicle, 2—Rail freight, 3—Cargo vessel, 4—Cargo aircraft only, 5—Passenger-carrying aircraft.

This notice of receipt of applications for special permit is published in accordance with part 107 of the Federal hazardous materials transportation law (49 U.S.C. 5117(b); 49 CFR 1.53(b)).

Issued in Washington, DC, on June 4, 2018.
Donald P. Burger,
Chief, General Approvals and Permits Branch.

Special Permits Data
Application No. | Applicant | Regulation(s) affected | Nature of the special permits thereof
20655-N | UTAH STATE UNIVERSITY RESEARCH FOUNDATION | 173.185(a) | To authorize the transportation in commerce of low production lithium ion batteries contained in equipment by cargo-only aircraft. (mode 4)
20656-N | THE SHERWIN-WILLIAMS MANUFACTURING COMPANY | 173.306(a)(3)(v) | To authorize the transportation in commerce of 2Q receptacles that have been tested in an alternative manner. (modes 1, 2, 3)
20657-N | NATIONAL AERONAUTICS AND SPACE ADMINISTRATION | 173.302a(a)(1) | To authorize the transportation in commerce of non-DOT specification pressure vessels incorporated into spacecraft via cargo vessel. (mode 3)
20658-N | NATIONAL AERONAUTICS AND SPACE ADMINISTRATION | 172.400, 172.300, 173.1 | To authorize the transportation in commerce of non-DOT specification packagings containing explosive articles that are not required to be marked or labeled. (modes 1, 3)
20659-N | NATIONAL AERONAUTICS AND SPACE ADMINISTRATION | 173.302a(a)(1) | To authorize the transportation in commerce of non-DOT specification pressure vessels that are incorporated into spacecraft. (modes 1, 2, 3, 4, 5)
20661-N | SAFT AMERICA INC | 172.400, 172.300, 173.301(g), 173.301(h), 173.302a(a)(1), 173.185(b) | To authorize the transportation in commerce of large lithium battery assemblies mounted in ISO containers that incorporate non-DOT specification cylinders. (modes 1, 3)
20663-N | DEPARTMENT OF DEFENSE (MILITARY SURFACE DEPLOYMENT & DISTRIBUTION COMMAND) | 173.219(b)(6) | To authorize the transportation in commerce of life-saving appliances that contain Division 1.4C material. (modes 1, 2, 3)
20664-N | FLAMMAT DOO BEOGRAD | 172.101(i)(1) | To authorize the transportation in commerce of firelighters as limited quantities. (mode 1)
20667-N | HAZ MAT SERVICES, INCORPORATED | 173.12(b)(3) | To authorize the transportation in commerce of cyanide compounds in lab packs. (mode 1)
20669-N | LOUISIANA ENERGY SERVICES, LLC | 173.420 | To authorize the transportation in commerce of 48Y Uranium Hexafluoride cylinders which do not conform to ANSI N14.1-2012 specification for the cylinder valve cap gasket. (mode 1)
20670-N | Envases de Acero, S.A. de C.V | 172.203(a), 172.301(c), 180.209(a), 180.213 | To authorize the ultrasonic examination of DOT specification 3AX, 3AAX, 3T, 3A and 3AA cylinders in lieu of hydrostatic testing. (modes 1, 2, 3, 4, 5)
20671-N | STERICYCLE SPECIALTY WASTE SOLUTIONS, INC | 171.1 | To authorize the transportation in commerce of certain materials authorized to be disposed of under 21 CFR part 1317, Subpart B by cargo vessel. (mode 3)
20673-N | Airopack B.V | 173.306(a) | To authorize the manufacture, mark, sale, and use of non-DOT specification receptacles containing aerosols that are not subject to the requirements of the HMR. (modes 1, 2, 3, 4, 5)
20674-N | Pacific Tugboat Service | 176.166(a)(5) | To authorize the transportation in commerce of articles in compatibility group B in excess of 5 kg by cargo vessel. (mode 3)
20675-N | COLEP PORTUGAL, S.A | 178.33-7(a) | To authorize the manufacture, mark, sale, and use of non-DOT specification receptacles similar to 2Q receptacles with a reduced wall thickness. (modes 1, 2, 3, 4, 5)
20677-N | DEPARTMENT OF DEFENSE (MILITARY SURFACE DEPLOYMENT & DISTRIBUTION COMMAND) | 173.302a(a)(1) | To authorize the transportation in commerce of non-DOT specification cylinders. (modes 1, 2, 3, 4)

[FR Doc. 2018-12454 Filed 6-8-18; 8:45 am]

BILLING CODE 4909-60-P